DEPARTMENT OF TRANSPORTATION

Office of the Secretary of Transportation

[Docket No. DOT-OST-2008-0182]

Agency Requests for Renewal of a Previously Approved Information Collection: SBTRC Regional Field Offices Intake Form (DOT F 4500) and SBTRC Regional Field Offices Quarterly Report Form (DOT F 4502)

AGENCY: Office of Small and Disadvantaged Business Utilization (OSDBU), Office of the Secretary of Transportation (OST), DOT.

ACTION: Notice of request for extension of currently approved information collection.

SUMMARY: The OSDBU invites public comments about our intention to request the Office of Management and Budget's (OMB) approval to renew an information collection. The collection involves the following two (2) forms that have an expiration date of 01/31/2012, and are presently in use. The SBTRC forms have added the term of Regional Field Offices Intake Form and Regional Field Offices Quarterly Report Form, respectively.

The Regional Field Offices Intake Form (No. DOT F 4500) is used to document the type of assistance provided to each small business that is enrolled in the database of the Program.

The use of the Regional Field Office Quarterly Report Form (No. DOT F 4502) highlights activities such as counseling, marketing, meetings/conferences, and services to businesses as completed during the quarter. The Quarterly Report Form provides a more composite and comprehensive review of the Field Offices' activities over a longer time frame. The information will be used to ascertain whether the program is providing services to its constituency, the small business community, and is done so in a fair and equitable manner. The information collected is necessary to determine whether small businesses are participating in DOT funded and DOT assisted opportunities with the DOT.

We are required to publish this notice in the Federal Register by the Paperwork Reduction Act of 1995, Public Law 104-13.

DATES: Please submit comments by March 23, 2012.

ADDRESSES: You may submit comments [identified by Docket No. DOT-OST-2008-0182] through one of the following methods:

• Federal eRulemaking Portal: Go to http://www.regulations.gov. Follow the online instructions for submitting comments.

• Fax: (202) 493-2251.

• Mail or Hand Delivery: U.S. Department of Transportation, Dockets Management Facility, 1200 New Jersey Avenue SE, West Building, Room W12-140, Washington, DC 20590.

• Agency Web Site: http://www.regulations.gov.

FOR FURTHER INFORMATION CONTACT: Arthur D. Jackson, (202) 366-1930 ext 65344, Office of Small and Disadvantaged Business Utilization, Office of the Secretary, U.S. Department of Transportation, 1200 New Jersey Avenue SE., Room W56 462, Washington, DC 20590. Office hours are from 9 a.m. to 5 p.m., Monday through Friday, except Federal holidays.

SUPPLEMENTARY INFORMATION:

OMB Control Number: 2105-0554.

Title: SBTRC Regional Field Offices Intake Form (DOT F 4500) and SBTRC Regional Field Offices Quarterly Report Form (DOT F 4502).

Form Numbers: DOT F 4500 and DOT F 4502.

Type of Review: Renewal of an information collection.

Background: In accordance with Public Law 95-507, an amendment to the Small Business Act and the Small Business Investment Act of 1953, OSDBU is responsible for the implementation and execution of DOT activities on behalf of small businesses, in accordance with Section 8, 15 and 31 of the Small Business Act (SBA), as amended. The Office of Small and Disadvantaged Business Utilization also administers the provisions of Title 49, of the United States Code, Section 332, the Minority Resource Center (MRC) which includes the duties of advocacy, outreach, and financial services on behalf of small and disadvantaged businesses and those certified under CFR 49 parts 23 and or 26 as Disadvantaged Business Enterprises (DBE).

SBTRC's Regional Field Offices will collect information on small businesses, which includes Disadvantaged Business Enterprise (DBE), Women-Owned Small Business (WOB), Small Disadvantaged Business (SDB), 8(a), Service Disabled Veteran Owned Business (SDVOB), Veteran Owned Small Business (VOSB), HubZone, and types of services they seek from the Regional Field Offices. Services and responsibilities of the Field Offices include business analysis, general management & technical assistance and training, business counseling, outreach services/conference participation, short-term loan and bond assistance. The cumulative data collected will be analyzed by the OSDBU to determine the effectiveness of services provided, including counseling, outreach, and financial services. Such data will also be analyzed by the OSDBU to determine agency effectiveness in assisting small businesses to enhance their opportunities to participate in government contracts and subcontracts.

The Regional Field Offices Intake Form, (DOT F 4500) is used to enroll small business clients into the program in order to create a viable database of firms that can participate in government contracts and subcontracts, especially those projects that are transportation related. Each area on the fillable pdf form must be filled in electronically by the Field Offices and submitted every quarter to OSDBU. The Offices will retain a copy of each Intake Form for their records. The completion of the form is used as a tool for making decisions about the needs of the business, such as; referral to technical assistance agencies for help, identifying the type of profession or trade of the business, the type of certification that the business holds, length of time in business, and location of the firm. This data can assist the Field Offices in developing a business plan or adjusting their business plan to increase its ability to market its goods and services to buyers and potential users of their services.

Respondents: SBTRC Regional Field Offices.

Estimated Number of Respondents: 100.

Frequency: The information will be collected quarterly.

Estimated Number of Responses: 100.

Estimated Total Annual Burden on Respondents: 600 hours per year.

Background: The Regional Field Offices Quarterly Report Form (DOT F 4502) by each Field Office must be submitted as a quarterly status report of business activities conducted during the three month time frame. The form is used to capture activities and accomplishments that were made by the Regional Field Offices during the course of the quarter. In addition, the form includes a data collection section where numbers and hours are reported and a section that is assigned for a written narrative that provides back up which supports the data.

Activities to be reported are (1) Counseling Activity which identifies the counseling hours provided to businesses, number of new appointments, and follow-up on counseled clients. (2) Activity for Businesses Served identifies the type of small business that is helped, such as a DBE, 8(a), WOB, HubZone, SDB, SDVOB, or VOSB. (3) Marketing Activity includes the name of an event attended by the SBTRC and the role played when participating in a conference, workshop or any other venue that relates to small businesses. (4) Meetings that are held with government representatives in the region, or at the state level, are an activity that is reported. (5) Events Hosted by the SBTRC Regional Field Offices, such as small business workshops, financial assistance workshops, matchmaking events, are activities that are reported on a quarterly basis.

Respondents: SBTRC Regional Field Offices.

Estimated Number of Respondents: 100.

Frequency: The information will be collected quarterly.

Estimated Number of Responses: 100.

Estimated Total Annual Burden on Respondents: 1200 hours per year.

Public Comments Invited: You are asked to comment on any aspect of this information collection, including (a) whether the proposed collection of information is necessary for the proper performance of the functions of the Department, including whether the information will have practical utility; (b) the accuracy of the Department's estimate of the burden of the proposed information collection; (c) ways to enhance the quality, utility and clarity of the information collection; and (d) ways to minimize the burden of the collection of information on respondents, by the use of electronic means, including the use of automated collection techniques or other forms of information technology. The agency will summarize and/or include your comments in the request for OMB's clearance of this information collection.

Authority: The Paperwork Reduction Act of 1995; 44 U.S.C. Chapter 35, as amended; and 49 CFR 1:48.

Issued in Washington, DC on January 24, 2012.
Brandon Neal,
Director, Office of Small and Disadvantaged, Business Utilization.

[FR Doc. 2012-2044 Filed 1-30-12; 8:45 am]

BILLING CODE 4910-9X-P